DEPARTMENT OF COMMERCE

International Trade Administration

[A-427-818]

Notice of Amended Final Determination of Sales at Less Than Fair Value and Antidumping Duty Order: Low Enriched Uranium From France

AGENCY: Import Administration, International Trade Administration, Department of Commerce.

EFFECTIVE DATE: February 13, 2002.

FOR FURTHER INFORMATION CONTACT: Vicki Schepker or Edward Easton, Group II, Office 5, Import Administration, International Trade Administration, U.S. Department of Commerce, 14th Street and Constitution Avenue, NW, Washington, DC 20230; telephone: (202) 482-1756, (202) 482-3003, respectively.

The Applicable Statute and Regulations

Unless otherwise indicated, all citations to the statute are references to the provisions effective January 1, 1995, the effective date of the amendments made to the Tariff Act of 1930 (the Act) by the Uruguay Round Agreements Act (URAA). In addition, unless otherwise indicated, all citations to the Department of Commerce (the Department) regulations refer to the regulations codified at 19 CFR part 351 (April 2000).

Scope of Order

For purposes of this order, the product covered is all low enriched uranium (LEU). LEU is enriched uranium hexafluoride (UF 6) with a U ²³⁵ product assay of less than 20 percent that has not been converted into another chemical form, such as UO², or fabricated into nuclear fuel assemblies, regardless of the means by which the LEU is produced (including LEU produced through the down-blending of highly enriched uranium).

Certain merchandise is outside the scope of this order. Specifically, this order does not cover enriched uranium hexafluoride with a U ²³⁵ assay of 20 percent or greater, also known as highly enriched uranium. In addition, fabricated LEU is not covered by the scope of this order. For purposes of this order, fabricated uranium is defined as enriched uranium dioxide (UO²), whether or not contained in nuclear fuel rods or assemblies. Natural uranium concentrates (U3O8) with a U ²³⁵ concentration of no greater than 0.711 percent and natural uranium concentrates converted into uranium hexafluoride with a U ²³⁵ concentration of no greater than 0.711 percent are not covered by the scope of this order.

Also excluded from this order is LEU owned by a foreign utility end-user and imported into the United States by or for such end-user solely for purposes of conversion by a U.S. fabricator into uranium dioxide (UO2) and/or fabrication into fuel assemblies so long as the uranium dioxide and/or fuel assemblies deemed to incorporate such imported LEU (i) remain in the possession and control of the U.S. fabricator, the foreign end-user, or their designed transporter(s) while in U.S. customs territory, and (ii) are re-exported within eighteen (18) months of entry of the LEU for consumption by the end-user in a nuclear reactor outside the United States. Such entries must be accompanied by the certifications of the importer and end user.

The merchandise subject to this order is classified in the Harmonized Tariff Schedule of the United States (HTSUS) at subheading 2844.20.0020. Subject merchandise may also enter under 2844.20.0030, 2844.20.0050, and 2844.40.00. Although the HTSUS subheadings are provided for convenience and customs purposes, the written description of the merchandise is dispositive.

Amended Final Determination

In accordance with section 735(a) of the Act, on December 21, 2001, the Department published its affirmative final determination of the antidumping duty investigation of low enriched uranium from France (Final Determination of Sales at Less Than Fair Value: Low Enriched Uranium from France, 66 FR 65877). On December 26, 2001, we received ministerial error allegations, timely filed pursuant to §351.224(c)(2) of the Department's regulations, from the petitioners ¹ regarding the Department's final margin calculations. On December 31, 2001, we received rebuttal comments from the respondent, Compagnie Generale des Matieres Nucleaires (Cogema) and Eurodif, S.A. (Eurodif).

¹ The petitioners in this investigation are USEC, Inc., and its wholly-owned subsidiary, United States Enrichment Corporation (collectively USEC); and the Paper Allied-Industrial, Chemical and Energy Workers International Union, AFL-CIO, CLC, Local 5-550 and Local 5-689 (collectively PACE).

The petitioners allege that the Department should recalculate Eurodif's general and administrative (G&A) expense, by using Eurodif's, rather than Cogema's, cost of goods sold as the denominator in the calculation. The respondent argues that the petitioners' allegation is a substantive issue that cannot be treated under the ministerial error provision.

In accordance with section 735(e) of the Act, we agree that a ministerial error in the calculation of the G&A expense ratio was made in our final margin calculation. For a detailed analysis of this allegation, and the Department's determination, see the January 10, 2001, Memorandum to Bernard T. Carreau from Constance Handley, regarding the Amended Final Determination in the Antidumping Duty Investigation of Low Enriched Uranium from France: Ministerial Error Allegations on file in room B-099 of the Main Commerce building. This determination is based on a reexamination of the G&A expense calculation.

We are amending the final determination of the antidumping duty investigation of low enriched uranium from France to correct the ministerial error. The revised final weighted-average dumping margins are shown below.

Antidumping Duty Order

On February 4, 2002, in accordance with section 735(d) of the Act, the International Trade Commission (ITC) notified the Department that a U.S. industry is materially injured within the meaning of section 735(b)(1)(A) of the Act by reason of imports of low enriched uranium from France.

Therefore, antidumping duties will be assessed on all unliquidated entries of low enriched uranium from France entered, or withdrawn from warehouse, for consumption on or after July 13, 2001, the date on which the Department published its preliminary affirmative antidumping duty determination in the Federal Register (66 FR 36743), and before January 9, 2002, the date the Department instructed the U.S. Customs Service to discontinue the suspension of liquidation in accordance with section 733(d) of the Act, and on all entries and withdrawals of subject merchandise made on or after the date of publication of this antidumping duty order in the Federal Register. Section 733(d) states that the suspension of liquidation pursuant to a preliminary determination may not remain in effect for more than four months, unless exporters representing a significant proportion of exports of the subject merchandise request that the period be extended to not more than 6 months. As noted in the preliminary determination (66 FR 36743), the respondent made such a request on July 2, 2001. Therefore, entries of low enriched uranium made on or after January 9, 2002, and prior to the date of publication of this order in the Federal Register, are not liable for the assessment of antidumping duties due to the Department's discontinuation, effective January 9, 2002, of the suspension of liquidation.

In accordance with section 736 of the Act, the Department will direct U.S. Customs officers to reinstitute the suspension of liquidation for low enriched uranium from France effective the date of publication of this notice in the Federal Register and to assess, upon further advice by the Department pursuant to section 736(a)(1) of the Act, antidumping duties equal to the amount by which the normal value of the merchandise exceeds the export price or constructed export price of the merchandise for all relevant entries of low enriched uranium from France.

On or after the date of publication of this notice in the Federal Register, U.S. Customs officers must require, at the same time as importers would normally deposit estimated duties on this merchandise, a cash deposit equal to the rates noted below. The All Others rate applies to all producers and exporters of low enriched uranium from France not specifically listed below. The cash deposit rates are as follows:

Exporter/manufacturer | Weighted- average margin percentage
Cogema/Eurodif | 19.95
All Others | 19.95

The all others rate applies to all entries of the subject merchandise except for entries from exporters/producers that are identified individually above.

This notice constitutes the antidumping duty order with respect to low enriched uranium from France, pursuant to section 736(a) of the Act. Interested parties may contact the Central Records Unit, Room B-099 of the main Commerce building, for copies of an updated list of antidumping duty orders currently in effect.

This order is issued and published in accordance with section 736(a) of the Act and 19 CFR 351.211.

Dated: February 6, 2002.
Bernard T. Carreau,
Acting Assistant Secretary for Import Administration.

[FR Doc. 02-3538 Filed 2-12-02; 8:45 am]

BILLING CODE 3510-DS-P